DEPARTMENT OF THE INTERIOR

National Park Service

National Register of Historic Places; Notification of Pending Nominations and Related Actions

Nominations for the following properties being considered for listing or related actions in the National Register were received by the National Park Service before July 21, 2007. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by August 21, 2007.

Paul R. Lusignan,
Acting Chief, National Register of Historic Places/National Historic Landmarks Program.

CALIFORNIA

Napa County

Ramos, John, Sherry House—Depot Station, 1468-1478 Railroad Ave., St. Helena, 07000849.

San Diego County

Coyote Canyon Wild Horse Herd Historic District, Anza-Borrego State Park, Borrego Springs, 07000848.

ILLINOIS

Cook County

Community House, 620 Lincoln Ave., Winnetka, 07000854.

Palmer Park, (Chicago Park District MPS), 201 E. 111th St., Chicago, 07000855.

Vassar Swss Underwear Company Building, 2545 W. Diversey Ave., Chicago, 07000859.

Vial, Robert, House, 7425 S. Wolf Rd., Burr Ridge, 07000853.

Rock Island County

Moline Downtown Commercial Historic District, Roughly bounded by 12th St. to 18th St., 4th Ave. to 7th Ave., Moline, 07000856.

IOWA

Henry County

Lewelling, Henderson and Elizabeth (Presnel), House, 401 S. Main St., Salem, 07000851.

Lee County

Fort Madison Downtown Commercial Historic District, (Iowa's Main Street Commercial Architecture MPS), Centered on Ave. G, from near 6th St., to mid-900 Blk, Inc. Ave. H from 7th to 9th, Fort Madison, 07000852.

Woodbury County

Williges Building, 613-615 Pierce St., Sioux City, 07000850.

LOUISIANA

Orleans Parish

Buildings at 445-447-449 South Rampart, 445-447-449 S. Rampart, New Orleans, 07000857.

MARYLAND

Baltimore County,

Goucher College, 1021 Dulaney Valley Rd., Towson, 07000885.

Frederick County

St. John's Church at Creagerstown Historic District, 8619 Blacks Mill Rd., Thurmont, 07000862.

Harford County

Graystone Lodge, 1118 Bel Air Rd., Bel Air, 07000858.

MASSACHUSETTS

Norfolk County

Roberts School, 320 Union St., Holbrook, 07000860.

Suffolk County

Boston Transit Commission Building, 15 Beacon St., Boston, 07000861.

NEW JERSEY

Atlantic County

Egg Harbor Commercial Bank, 134 Philadelphia Ave., Egg Harbor City, 07000875.

Mercer County

Princeton Ice Company, 57 Mountain Ave., Princeton, 07000874.

Somerset County

Presbyterian Church at Bound Brook, 409 Mountain Ave., Bound Brook Borough, 07000876.

Union County

Cedar Brook Park, Roughly bounded Steel Ave., Arlington Ave., Park Ave., Rose St. and Laramie Rd., Kenyon Ave., Parkside Rd., Plainfield, 07000878.

Wallace Chapel AME Zion Church, 138-142 Broad St., Summit Town, 07000877.

NEW YORK

Cayuga County

Burritt, Orrin W., House, 2696 Van Buren St., Weedsport, 07000864.

Erie County

Buffalo, Rochester and Pittsburgh Railway Station, 395 S. Lincoln Ave., Orchard Park, 07000871.

Franklin County

Hastings Farmstead, 12 Conservation Rd., Dickinson Center, 07000872.

Jefferson County

Fairview Manor, 38289 NY 12-E, Clayton, 07000866.

Kings County

Christ Evangelical English Lutheran Church, 1084 Lafayette Ave., Brooklyn, 07000870.

Nassau County

Cornell—Van Nostrand House, New Hyde Park Rd. and Marcus Ave., New Hyde Park, 07000863.

New York County

Engineering Societies' Building and Engineers' Club, 23 and 25-33 W. 39th St., 28,32-34 and 36 W. 40th St., New York, 07000867.

Onondaga County

Burhans, Harry N., House, (Architecture of Ward Wellington Ward in Syracuse MPS), 2627 E. Genesee St., Syracuse, 07000868.

Seneca County

Bull, Julius and Harriet, House, (Freedom Trail, Abolitionism, and African American Life in Central New York MPS), 2534 Lower Lake Rd., Seneca Falls, 07000869.

Kinne, David and Mary, Farmstead, (Freedom Trail, Abolitionism, and African American Life in Central New York MPS), 6858 Kinne Rd., Ovid, 07000865.

Suffolk County

Gamecock Cottage, Shipman's Point/S end of W. Meadow Beach, Stony Brook, 07000886.

Ulster County

Milton Railroad Station, 41 Dock Rd., Milton, 07000873.

NORTH CAROLINA

Franklin County

Wheless, Thomas and Lois, House, 106 John St., Louisburg, 07000887.

Graham County

Graham County Courthouse, 12 N. Main St., Robbinsville, 07000883.

Hertford County

Thomas, Dr. Roscius P. and Mary Mitchell, House and Outbuildings, 734 Thomas Bridge Rd., Bethlehem, 07000884.

Surry County

Gwyn Avenue—Bridge Street Historic District, Roughly bounded by N. Bridge St., Mill View Rd., Market St. and Church St. Elkin, 07000882.

Wake County

Barbee, George and Neva, House, (Wake County MPS), 216 W. Gannon Ave., Zebulon, 07000881.

Rock Cliff Farm, West end of Bent Rd., Wake Forest, 07000879.

PENNSYLVANIA

Allegheny County

Highland Park Residential Historic District, Roughly bounded by Highland Park, Heth's Run and Heth's Ave., Chislett St., Stanton Ave. and Jackson St., Pittsburgh, 07000888.

Turtle Creek High School, 126 Monroeville Ave., Turtle Creek, 07000880.

Bucks County

Walt Disney Elementary School, 200 Lakeside Dr. N, Tullytown, 07000889.

Westmoreland County

Dick Building, 201-203 E. Main St., West Newton, 07000890.

RHODE ISLAND

Kent County

Greene, Christopher Rhodes, House, 2 Potter Court, Coventry, 07000891.

TEXAS

Denton County

Pilot Point Commercial Historic District, Portions of eight blks in downtown Pilot Point centered around the public square, Pilot Point, 07000893.

Jefferson County

Beaumont Commercial District (Boundary Increase), Roughly bounded by Willow, Neches, Gilber and Main Sts., Beaumont, 07000892.

VERMONT

Caledonia County

Wheelock Common Historic District, VT 122, and town hwy 17, Wheelock, 07000894.

VIRGINIA

Mecklenburg County

Syndor, Patrick Robert, Log Cabin, Address Restricted, Clarksbille, 07000896.

WASHINGTON

Skamania County

Region Six Personnel Training Station, Wind River Work Center, 1262 Hemlock Rd., Gifford Pinchot National Forest, 07000895.

A request for REMOVAL has been made for the following resource:

NEW MEXICO

McKinley County

Log Cabin Motel, (Route 66 through New Mexico MPS), 1010 W. 66 Ave., Gallup, 93001213.

[FR Doc. E7-15175 Filed 8-3-07; 8:45 am]

BILLING CODE 4310-70-P